DEPARTMENT OF ENERGY

Federal Energy Regulatory Commission

[Docket Nos. RM06-16-010; RM06-16-011]

Mandatory Reliability Standards for the Bulk Power System; Supplemental Notice of Technical Conference

September 14, 2010.

On August 19, 2010 the Federal Energy Regulatory Commission announced that a Technical Conference on Frequency Response in the Wholesale Electric Grid would be held on Thursday, September 23, from 10 a.m. to 4 p.m. This staff-led conference will be held in the Commission Meeting Room at the Federal Energy Regulatory Commission, 888 First Street, NE., Washington, DC 20426. The conference will be open for the public to attend and advance registration is not required. Members of the Commission may attend the conference.

Attached is an agenda for this meeting. A full agenda, with panelists, will be posted on the Commission's Web calendar page for this event prior to the meeting. The Commission's Web site is at http://www.ferc.gov.

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Sarah McKinley, Office of External Affairs, Federal Energy Regulatory Commission, 888 First Street, NE., Washington, DC 20426, (202) 502-8368, sarah.mckinley@ferc.gov.

Kimberly D. Bose,
Secretary.

[FR Doc. 2010-23600 Filed 9-21-10; 8:45 am]

BILLING CODE 6717-01-P